NUCLEAR REGULATORY COMMISSION

Fire Dynamics Tools (FDTs)—Quantitative Fire Hazard Analysis Methods for the U.S. Nuclear Regulatory Commission Fire Protection Inspection Program, Availability of NUREG

AGENCY: Nuclear Regulatory Commission.

ACTION: Notice of availability.

SUMMARY: The Nuclear Regulatory Commission is announcing the completion and availability of Draft NUREG-1805, “Fire Dynamics Tools (FDTs)—Quantitative Fire Hazard Analysis Methods for the U.S. Nuclear Regulatory Commission Fire Protection Inspection Program,” dated June 30, 2003.

ADDRESSES: Draft NUREG-1805 is available for inspection and copying for a fee at the NRC Public Document Room, 11555 Rockville Pike, Rockville, Maryland. As of July 8, 2003, you may also electronically access NUREG-series publications and other NRC records at NRC's Public Electronic reading Room at www.nrc.gov/reading-rm.html.

A free single copy of Draft NUREG-1805, to the extent of supply, may be requested by writing to Office of the Chief Information Officer, Reproduction and Distribution Services Section, U.S. Nuclear Regulatory Commission, Printing and Graphics Branch, Washington, DC 20555-000; facsimile: 301-415-2289; e-mail: DISTRIBUTION@nrc.gov.

Some publications in NUREG-series that are posted at NRC's Web site address www.nrc.gov/NRC/NUREGS/indexnum.html are updated regularly and may differ from the last printed version.

FOR FURTHER INFORMATION CONTACT: Naeem Iqbal or Mark H. Salley, Office of Nuclear Reactor Regulation, U.S. Nuclear Regulatory Commission, Washington, DC 20555-0001. Telephone: 301-415-3346 or 301-415-2840.

SUPPLEMENTARY INFORMATION: The U.S. Nuclear Regulatory Commission (NRC), Office of Nuclear Reactor Regulation (NRR), Division of Systems Safety and Analysis (DSSA), Plant Systems Branch (SPLB), Fire Protection Engineering and Special Projects Section has developed quantitative methods, known as “Fire Dynamics Tools (FDTs),” to assist regional fire protection inspectors in performing fire hazard analysis (FHA). These methods have been implemented in spreadsheets and taught at the NRC's quarterly regional inspector workshops. The goal of the training is to assist inspectors in calculating the quantitative aspects of a postulated fire and its effects on safe nuclear power plant (NPP) operation. FDTs were developed using state-of-the-art fire dynamics equations and correlations that were pre-programmed and locked into Microsoft Excel® spreadsheets. These FDTs will enable the inspector to perform quick, easy, first-order calculations for the potential fire scenarios using today's state-of-the-art principles of fire dynamics. Each FDTs spreadsheet also contains a list of the physical and thermal properties of the materials commonly encountered in NPPs.

The FDTs are intended to assist fire protection inspectors in performing risk-informed evaluations of credible fires that may cause critical damage to essential safe-shutdown equipment. This is the process required by the new reactor oversight process (ROP) in the NRC's inspection manual. In the new ROP, the NRC is moving toward a more risk-informed, objective, predictable, understandable, and focused regulatory process. Key features of the new program are a risk-informed regulatory framework, risk-informed inspections, a significance determination process (SDP) to evaluate inspection findings, performance indicators, a streamlined assessment process, and more clearly defined actions that the NRC will take for plants based on their performance.

This NUREG addresses the technical bases for FDTs, which were derived from the principles developed primarily in the Society of Fire Protection Engineers (SFPE) Handbook of Fire Protection Engineering, National Fire Protection Association (NFPA) Fire Protection Handbook, and other fire science literature. The subject matter of this NUREG covers many aspects of fire dynamics and contains descriptions of the most important fire processes. A significant number of examples, reference tables, illustrations, and conceptual drawings are presented in this NUREG to expand the inspector's appreciation in visualizing and retaining the material and understanding calculation methods.

The content of the FDTs encompasses fire as a physical phenomenon. As such, the inspector needs a working knowledge of algebra to effectively use the formulae presented in this NUREG and FDTs. Acquired technical knowledge or course background in the sciences will also prove helpful. The information contained in this NUREG is similar to, but includes less theory and detail than, an undergraduate-level university curriculum for fire protection engineering students.

The goal of this NUREG is to develop a common body of knowledge of commercial NPP fire protection and fire science to enable the inspector to acquire the understanding, skills, and abilities necessary to effectively apply principles of fire dynamics to analyze the potential effects of a fire in an NPP. The FDTs will advance the FHA process from a primarily qualitative approach to a more quantitative approach. The development of this NUREG, the FDTs, and the quarterly inspector workshops conducted in 2001-2002 are the NRC's first steps in achieving that goal.

Fire is a complex subject and transfer of its concepts to useful pursuits is a challenge. We hope that this NUREG and the FDTs can make a difference in the NRC's fire protection inspection program, specifically risk-informed fire protection initiatives such as the SDP and risk-informed inspection of associated circuits.

Dated at Rockville, Maryland, this 23 day of June, 2003.
For the Nuclear Regulatory Commission.
John N. Hannon,
Chief, Plant Systems Branch, Division of Systems Safety and Analysis, Office of Nuclear Reactor Regulation.

[FR Doc. 03-18543 Filed 7-21-03; 8:45 am]

BILLING CODE 7590-01-P